DEPARTMENT OF LABOR

Employment and Training Administration

[TA-W-53,430]

EMF Corporation, EMK Division, Burkesville, Kentucky; Notice of Revised Determination on Reconsideration

By application postmarked December 23, 2003, a petitioner requested administrative reconsideration regarding the Department's Negative Determination Regarding Eligibility to Apply for Worker Adjustment Assistance, applicable to the workers of the subject firm.

The initial investigation resulted in a negative determination issued on December 9, 2003, based on the finding that imports of electric wire harnesses did not contribute importantly to worker separations at the subject plant and no shift of production to a foreign source occurred. The denial notice was published in the Federal Register on January 16, 2004 (69 FR 2622).

The petitioner requested that all areas of EMK's business transactions be thoroughly investigated. The petitioner appears to be indicating work done by the subject firm was shifted to Mexico.

Upon further review of the initial investigation and contact with the subject firm's largest customer, new information was provided revealing that the customer increased its import purchases of electric wire harnesses, while significantly decreasing its purchases from the subject firm.

Conclusion

After careful review of the additional facts obtained on reconsideration, I conclude that increased imports of articles like or directly competitive with those produced at EMF Corporation, EMK Division, Burkesville, Kentucky, contributed importantly to the declines in sales or production and to the total or partial separation of workers at the subject firm. In accordance with the provisions of the Act, I make the following certification:

All workers of EMF Corporation, EMK Division, Burkesville, Kentucky, who became totally or partially separated from employment on or after October 21, 2002 through two years from the date of this certification, are eligible to apply for adjustment assistance under Section 223 of the Trade Act of 1974.

Signed in Washington, DC, this 28th day of January 2004.
Elliott S. Kushner,
Certifying Officer, Division of Trade Adjustment Assistance.

[FR Doc. 04-3312 Filed 2-13-04; 8:45 am]

BILLING CODE 4310-30-P